DEPARTMENT OF HEALTH AND HUMAN SERVICES

45 CFR Parts 153, 155 and 156

[CMS-9989-N2]

Patient Protection and Affordable Care Act; Establishment of Exchanges and Qualified Health Plans, and Standards Related to Reinsurance, Risk Corridors and Risk Adjustment; Extension of Comment Period

AGENCY: Department of Health and Human Services.

ACTION: Proposed rule; extension of comment period.

SUMMARY: This document extends the comment period for two proposed rules published in the Federal Register on July 15, 2011. One proposed rule would implement the new Affordable Insurance Exchanges (“Exchanges”), consistent with Title I of the Patient Protection and Affordable Care Act of 2010 as amended by the Health Care and Education Reconciliation Act of 2010, referred to collectively as the Affordable Care Act. The other proposed rule would implement standards for States related to reinsurance and risk adjustment, and for health insurance issuers related to reinsurance, risk corridors, and risk adjustment consistent with Title I of the Affordable Care Act. The comment period for both proposed rules, which would have ended on September 28, 2011, is extended to October 31, 2011.

DATES: The comment period for two proposed rules published in the Federal Register on July 15, 2011 (76 FR 41866 and 76 FR 41930, respectively), is extended from 5 p.m. Eastern Standard Time on September 28, 2011, to 5 p.m. Eastern Standard Time on October 31, 2011.

ADDRESSES: In commenting, please refer to file code CMS-9989-N2. Because of staff and resource limitations, we cannot accept comments by facsimile (FAX) transmission.

You may submit comments in one of four ways (please choose only one of the ways listed):

1. Electronically. You may submit electronic comments on this regulation to http://www.regulations.gov. Follow the instructions under the “More Search Options” tab.

2. By regular mail. You may mail written comments to the following address ONLY: Centers for Medicare & Medicaid Services, Department of Health and Human Services, Attention: CMS-9989-N2, P.O. Box 8010, Baltimore, MD 21244-8010.

Please allow sufficient time for mailed comments to be received before the close of the comment period.

3. By express or overnight mail. You may send written comments to the following address ONLY: Centers for Medicare & Medicaid Services, Department of Health and Human Services, Attention: CMS-9989-N2, Mail Stop C4-26-05, 7500 Security Boulevard, Baltimore, MD 21244-1850.

4. By hand or courier. If you prefer, you may deliver (by hand or courier) your written comments before the close of the comment period to either of the following addresses:

a. For delivery in Washington, DC—Centers for Medicare & Medicaid Services, Department of Health and Human Services, Room 445-G, Hubert H. Humphrey Building, 200 Independence Avenue, SW., Washington, DC 20201.

(Because access to the interior of the Hubert H. Humphrey Building is not readily available to persons without Federal government identification, commenters are encouraged to leave their comments in the CMS drop slots located in the main lobby of the building. A stamp-in clock is available for persons wishing to retain a proof of filing by stamping in and retaining an extra copy of the comments being filed.)

b. For delivery in Baltimore, MD—Centers for Medicare & Medicaid Services, Department of Health and Human Services, 7500 Security Boulevard, Baltimore, MD 21244-1850.

If you intend to deliver your comments to the Baltimore address, please call telephone number (410) 786-9994 in advance to schedule your arrival with one of our staff members.

Comments mailed to the addresses indicated as appropriate for hand or courier delivery may be delayed and received after the comment period.

FOR FURTHER INFORMATION CONTACT:

Sharon Arnold, (301) 492-4415 for general information and matters related to reinsurance, risk adjustment, and risk corridors.

Laurie McWright, (301) 492-4372 for general information and matters related to Exchanges and qualified health plans.

Alissa DeBoy, (301) 492-4428 for general information and matters related to Exchanges and qualified health plans.

SUPPLEMENTARY INFORMATION: On July 15, 2011, we published two proposed rules in the Federal Register (76 FR 41866 through 41927 and 76 FR 41930 through 41956, respectively).

The first rule would implement the new Affordable Insurance Exchanges (“Exchanges”), consistent with Title I of the Patient Protection and Affordable Care Act of 2010 (Pub. L. 111-148) as amended by the Health Care and Education Reconciliation Act of 2010 (Pub. L. 111-152), referred to collectively as the Affordable Care Act. The Exchanges would provide competitive marketplaces for individuals and small employers to directly compare available private health insurance options on the basis of price, quality, and other factors. The Exchanges, which would become operational by January 1, 2014, would help enhance competition in the health insurance market, improve choice of affordable health insurance, and give small businesses the same purchasing clout as large businesses. This proposed rule, “Patient Protection and Affordable Care Act; Establishment of Exchanges and Qualified Health Plans,” is significant in that it proposes—(1) Federal requirements that States must meet if they elect to establish and operate an Exchange; (2) minimum requirements that health insurance issuers must meet to participate in an Exchange and offer qualified health plans (QHPs); and (3) basic standards that employers must meet to participate in the Small Business Health Options Program (SHOP).

The second proposed rule would implement standards for States related to reinsurance and risk adjustment, and for health insurance issuers related to reinsurance, risk adjustment, and risk corridors consistent with Title I of the Affordable Care Act. Collectively, these programs would mitigate the impact of potential adverse selection and stabilize premiums in the individual and small group markets as insurance reforms and the Exchanges are implemented. These programs are significant in that—(1) The transitional reinsurance program would serve to reduce uncertainty of insurance risk in the individual market by making payments to health plan issuers for high-cost cases; (2) the temporary risk corridor program would serve to protect against uncertainty by limiting the extent of health plan issuer losses and gains; and (3) the permanent risk adjustment program, on an on-going basis, is intended to provide adequate payments to health insurance issuers that attract high-risk populations, such as individuals with chronic conditions.

We believe that rules proposed by HHS and the Treasury on August 17, 2011 (76 FR 51148, 76 FR 51202, and 76 FR 50931, respectively), about eligibility determinations by an Exchange, generate additional insight on the issues raised by the July 15, 2011 proposed rules. Based on this reason, we are extending the comment period for the July 15, 2011 proposed rules to October 31, 2011.

Dated: September 26, 2011.
Donald M. Berwick,
Administrator, Centers for Medicare & Medicaid Services.
Dated: September 26, 2011.
Kathleen Sebelius,
Secretary.

[FR Doc. 2011-25202 Filed 9-27-11; 11:15 am]

BILLING CODE 4120-01-P